DEPARTMENT OF COMMERCE

National Oceanic and Atmospheric Administration

50 CFR Part 622

[Docket No. 240506-0129; RTID 0648-XE036]

Fisheries of the Caribbean, Gulf of Mexico, and South Atlantic; Reef Fish Resources of the Gulf of Mexico; 2024 Recreational Harvest Closure for Gag

AGENCY: National Marine Fisheries Service (NMFS), National Oceanic and Atmospheric Administration (NOAA), Commerce.

ACTION: Temporary rule; closure.

SUMMARY: NMFS implements an accountability measure (AM) for the gag recreational sector in the exclusive economic zone (EEZ) of the Gulf of Mexico (Gulf) for the 2024 fishing year. NMFS has projected that the 2024 recreational annual catch target (ACT) for gag will be reached by September 16, 2024. Therefore, NMFS closes the recreational sector for Gulf gag on September 16, 2024, and it will remain closed through the end of the fishing year on December 31, 2024. This closure is necessary to protect the Gulf gag resource.

DATES: This temporary rule is effective from 12:01 a.m. local time on September 16, 2024, through December 31, 2024.

FOR FURTHER INFORMATION CONTACT: Frank Helies, NMFS Southeast Regional Office, 727-824-5305, frank.helies@noaa.gov.

SUPPLEMENTARY INFORMATION: NMFS manages the Gulf reef fish fishery that includes gag under the Fishery Management Plan for the Reef Fish Resources of the Gulf of Mexico (FMP). The Gulf of Mexico Fishery Management Council (Council) prepared the FMP, which was approved by the Secretary of Commerce, and is implemented by NMFS under the authority of the Magnuson-Stevens Fishery Conservation and Management Act (Magnuson-Stevens Act) through regulations at 50 CFR part 622. All weights described in this temporary rule are in gutted weight.

On June 1, 2024, NMFS implemented a final rule for Amendment 56 to the FMP that modified management of gag in the Gulf EEZ (89 FR 40419, May 10, 2024). For gag, that final rule revised the commercial and recreational catch levels, the recreational AMs, and the recreational fishing season. For the recreational sector, the revised recreational annual catch limit (ACL) for 2024 is 288,000 pounds (lb) (130,635 kilograms (kg)), and the recreational ACT is 230,000 lb (104,326 kg) (50 CFR 622.41(d)(2)(i)). These catch limits are based on the projections from the most recent stock assessment, which included estimates of recreational landings in Florida derived from and the Florida Fish and Wildlife Conservation Commission's State Reef Fish Survey (SRFS). The revised recreational AM states that if recreational landings reach or are projected to reach the applicable recreational ACT, then NMFS will close the recreational sector for the remainder of the fishing year (50 CFR 622.41(d)(2)(ii)). The recreational AMs also state that if NMFS estimates that gag recreational landings have exceeded the applicable recreational ACL and gag is overfished, then in the following fishing year, the recreational ACL and recreational ACT will be reduced by the amount of the recreational ACL overage in the prior fishing year unless the best scientific information available determines that greater, lesser, or no overage adjustment is necessary (50 CFR 622.41(d)(2)(iii)). The final rule also implemented a seasonal closure of the gag recreational sector to prohibit harvest annually from January 1 through August 31 in the Gulf EEZ (50 CFR 622.34(e)).

In 2023, NMFS implemented a temporary rule to reduce overfishing of gag while the Gulf of Mexico Fishery Management Council developed Amendment 56 (88 FR 27701, May 3, 2023; 88 FR 69553, October 6, 2023). The temporary rule reduced the 2023 recreational ACL for gag to 403,759 lb (183,142 kg). The 2023 recreational ACL was derived, in part, using landings estimates for Florida from the Marine Recreational Information Program (MRIP) Fishing Effort Survey (FES). Final 2023 landings estimates from MRIP-FES were 737,706 lb (334,618 kg).

Because the catch limits in the final rule for Amendment 56 were derived, in part, using estimates from SRFS, these catch limits are not directly comparable to the 2023 catch limits. To determine the magnitude of the 2023 overage as compared to the 2024 ACL, NMFS calibrated the 2023 recreational ACL and recreational landings to be consistent with the estimates produced by SRFS. This calibration results in a 2023 recreational ACL of 211,588 lb (95,975 kg) and 2023 recreational landings of 336,182 lb (152,490 kg), which exceed the ACL by 124,624 lb (56,528 kg). Therefore consistent with the recreational AM at 50 CFR 622.41(d)(2)(iii) the 2024 recreational ACL and ACT are reduced by the amount of the 2023 recreational ACL overage. For the 2024 fishing year, the resulting adjusted recreational ACL is 163,376 lb (74,106 kg) and the adjusted recreational ACT is 105,376 lb (47,798 kg).

The 2024 recreational fishing season opens on September 1, and NMFS projects that the 2024 adjusted recreational ACT for Gulf gag of 105,376 lb (47,798 kg) will be reached as of September 16, 2024. This closure date is based on projected harvest rates using recreational landings from 2020 through 2023, and the evaluation of five scenarios that generated closure dates ranging from September 13, 2024, to September 22, 2024. To increase the likelihood of constraining harvest to the 2024 adjusted recreational ACT, NMFS is acting conservatively by implementing a closure date near the low end of the projections. Accordingly, this temporary rule closes the recreational sector for Gulf gag effective at 12:01 a.m., local time, on September 16, 2024, through the end of the fishing year on December 31, 2024.

During the recreational closure, the bag and possession limits of gag in or from the Gulf EEZ are zero. The prohibition on possession of gag also applies in state waters of the Gulf for any vessel issued a valid Federal charter vessel/headboat permit for Gulf reef fish.

Classification

NMFS issues this action pursuant to section 305(d) of the Magnuson-Stevens Act. This action is required by 50 CFR 622.41(d)(2)(ii) and (iii), which were issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the regulations associated with the closure of recreational harvest of gag at 50 CFR 622.41(d)(2)(ii) and the reduction of the gag recreational ACL and ACT at 50 CFR 622.41(d)(2)(iii) have already been subject to notice and public comment, and all that remains is to notify the public of the closure based on the adjusted ACT. Prior notice and opportunity for public comment are contrary to the public interest. Prior notice and opportunity for public comment would require time and many of those affected by the length of the recreational fishing seasons, particularly for-hire operations that book trips for clients in advance, need as much notice as NMFS is able to provide to adjust their business plans to account for changes to the recreational fishing season.

Authority: 16 U.S.C. 1801 et seq.

Dated: June 24, 2024.
Karen H. Abrams,
Acting Director, Office of Sustainable Fisheries, National Marine Fisheries Service.

[FR Doc. 2024-14225 Filed 6-25-24; 4:15 pm]

BILLING CODE 3510-22-P